DEPARTMENT OF THE INTERIOR

Bureau of Land Management

[17X; LLID933000 .L54200000.PN0000.LVDI1702700; 4500110301]

Notice of Application for Recordable Disclaimer of Interest in Lands, Bingham County, Idaho

AGENCY: Bureau of Land Management, Interior.

ACTION: Notice.

SUMMARY: Claire Rich Blakely has filed an application with the Bureau of Land Management (BLM) for a Recordable Disclaimer of Interest from the United States on behalf of LaRue J. Rich and Violet B. Rich. The application affects an approximately 56-acre unsurveyed parcel of land in Bingham County, Idaho. This Notice is intended to inform the public of the pending application and of the opportunity for comment.

DATES: Comments on this application should be received by April 25, 2018.

ADDRESSES: Comments must be filed in writing with James M. Fincher, Chief, Branch of Lands, Minerals, and Water Rights, Bureau of Land Management, Idaho State Office, 1387 S. Vinnell Way, Boise, Idaho 83709.

FOR FURTHER INFORMATION CONTACT: John Sullivan, Supervisory Realty Specialist, at the above address or by phone at (208) 373-3863. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Pursuant to Section 315 of the Federal Land Policy and Management Act of 1976 (43 U.S.C. 1745), Claire Rich Blakely, on behalf of LaRue J. Rich and Violet B. Rich, filed an application for a Disclaimer of Interest for an approximate 56-acre parcel of unsurveyed land lying in Bingham County, Idaho, described as follows:

Unsurveyed lands (not officially surveyed and filed by the Federal Government) located in Section 6, Township 4 South, Range 34 East, Boise Meridian, Idaho; lying between Government lots 1, 2, and 3 of Section 6 and the northerly (right) bank of the Snake River, as shown on the official plat of survey filed November 17, 2006; including,

A parcel of land situated in a portion of Section 6, in Township 4 South, Range 34 East, Boise Meridian, Bingham County, Idaho, as surveyed and shown in a Record of Survey, January 17, 2014, filed under Instrument No. 655830 in the office of the Recorder of Bingham County, Idaho, at the request of Keller Associates Inc., being more particularly described as follows:

Commencing at the one-quarter (¼) section corner of sections 1 and 6, on the west boundary of T. 4 S., R. 34 E. and being the Point of Beginning;

Thence, along the west boundary of Section 6 the following 2 courses:

1. North 1°45′18″ East, a distance of 774.84 feet;

2. North 0°15′41″ East, a distance of 126.06 feet;

Thence, along the southerly boundary of Government lot 3 and a portion of Government lot 2 the following 6 courses:

1. North 39°51′44″ East, a distance of 700.36 feet;

2. South 60°38′55″ East, a distance of 171.60 feet;

3. South 65°38′55″ East, a distance of 283.80 feet;

4. South 1°38′55″ East, a distance of 231.00 feet;

5. North 69°21′05″ East, a distance of 310.20 feet;

6. North 88°21′05″ East, a distance of 131.77 feet;

Thence, South 0°41′49″ West, a distance of 2151.64 feet to a point on the right bank of the Snake River;

Thence, westerly along the right bank of the Snake River the following 7 courses:

1. North 86°32′48″ West, a distance of 241.70 feet;

2. North 61°14′09″ West, a distance of 718.51 feet;

3. North 39°30′00″ West, a distance of 83.26 feet;

4. North 11°54′58″ West, a distance of 102.69 feet;

5. North 31°36′34″ West, a distance of 174.64 feet;

6. North 51°27′15″ West, a distance of 155.21 feet;

7. North 41°02′59″ West, a distance of 191.97 feet to a point on the west boundary of Section 6;

Thence, North 0°14′18″ East along the west boundary of Section 6 a distance of 116.96 feet to the Point of Beginning.

Metes and Bounds Basis of Bearings: Per a Record of Survey filed January 17, 2014, filed under Instrument No. 655830 in the office of the Recorder of Bingham County, Idaho, at the request of Keller Associates Inc.

The land(s) described contain 56.60 acres, more or less.

The above-referenced parcel was researched and described in the October 4, 2016, Disclaimer of Interest Report by Mark Smirnov, BLM Cadastral Surveyor (now retired). In his report, Mr. Smirnov references a BLM Official Dependent Resurvey approved on August 31, 2006, and filed on November 17, 2006. The report concludes that there were no original fraudulent or grossly erroneous errors made in the original public land surveys and, therefore, the land outside the originally described northerly meanders of the Snake River is a combination of non-substantial omitted lands and accretions to the original patent description.

The parcel that is the subject of this disclaimer application is claimed by LaRue J. Rich and Violet B. Rich based on the fact that they are the current owners of the property immediately abutting the northerly boundary of the unsurveyed property. The adjacent property owned by LaRue J. Rich and Violet B. Rich was obtained via a United States patent that was issued on April 12, 1928 (no. 1014619), to their predecessor, Lafayette S. Rich, under the authority of the Desert Land Act of March 3, 1877 (19 Stat. 377). The unsurveyed parcel that is the subject of this disclaimer application abuts the patented property, and the application states that the parcel has been used by the Rich family as a part of their property since the family first entered the area in 1895. Issuing a recordable disclaimer would clarify title to the land. If no valid objection is received, a Disclaimer of Interest may be approved stating that the United States does not have a valid interest in the above-described land.

Comments, including names and street addresses of commentors, will be available for public review at the BLM Idaho State Office (see ADDRESSES above), during regular business hours, Monday through Friday, except Federal holidays. Before including your address, phone number, email address, or other personal identifying information in your comment, you should be aware that your entire comment—including your personal identifying information—may be made publicly available at any time. While you can ask us in your comment to withhold your personal identifying information from public review, we cannot guarantee that we will be able to do so.

Authority: 43 CFR Subpart 1864.

James M. Fincher,
Chief, Branch of Lands, Minerals and Water Rights.

[FR Doc. 2018-01322 Filed 1-24-18; 8:45 am]

BILLING CODE 4310-AK-P